DEPARTMENT OF ENERGY

Federal Energy Regulatory Commission

Combined Notice of Filings #2

Take notice that the Commission received the following electric corporate filings:

Docket Numbers: EC12-134-000.

Applicants: NRG Energy, Inc, GenOn Energy, Inc.

Description: NRG Energy, Inc, et al. submits additional information.

Filed Date: 9/28/12.

Accession Number: 20120928-5331.

Comments Due: 5 p.m. ET 10/9/12.

Docket Numbers: EC12-151-000.

Applicants: FirstEnergy Service Company.

Description: Application Pursuant to FPA Section 203(A)(1) for Approval of Revised Allocations Under the Facilities Lease and Assignment Agreement, Request for Waivers of Filing Requirements, and Request for Expedited Disposition of FirstEnergy Service Company.

Filed Date: 9/28/12.

Accession Number: 20120928-5333.

Comments Due: 5 p.m. ET 10/19/12.

Docket Numbers: EC13-1-000.

Applicants: Alta Wind VII, LLC, Alta Wind IX, LLC, MidAmerican Energy Holdings Company.

Description: Joint Application for Authorization under Section 203, and Request for Expedited Treatment and Shortened Comment Period of Alta Wind VII, LLC, et al.

Filed Date: 10/1/12.

Accession Number: 20121001-5294.

Comments Due: 5 p.m. ET 10/22/12.

Take notice that the Commission received the following electric rate filings:

Docket Numbers: ER13-1-000.

Applicants: PJM Interconnection, L.L.C.

Description: Ministerial Filing of PJM OATT Att DD 5.10 re previously accepted language to be effective 10/1/2012.

Filed Date: 10/1/12.

Accession Number: 20121001-5099.

Comments Due: 5 p.m. ET 10/22/12.

Docket Numbers: ER13-2-000.

Applicants: Southern California Edison Company.

Description: SGIA and Distribution Service Agreement with RE Rio Grande, LLC to be effective 10/2/2012.

Filed Date: 10/1/12.

Accession Number: 20121001-5198.

Comments Due: 5 p.m. ET 10/22/12.

Docket Numbers: ER13-3-000.

Applicants: ISO New England Inc.

Description: ISO New England Inc. Resource Termination Filing.

Filed Date: 10/1/12.

Accession Number: 20121001-5280.

Comments Due: 5 p.m. ET 10/22/12.

Docket Numbers: ER13-4-000.

Applicants: Florida Power Corporation.

Description: Florida Power Corporation submits tariff filing per 35.13(a)(2)(iii: Rate Schedule No. 219 of Florida Power Corporation to be effective 12/30/2012.

Filed Date: 10/1/12.

Accession Number: 20121001-5334.

Comments Due: 5 p.m. ET 10/22/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 01, 2012.
Nathaniel J. Davis, Sr.,
Deputy Secretary.

[FR Doc. 2012-24735 Filed 10-5-12; 8:45 am]

BILLING CODE 6717-01-P